DEPARTMENT OF JUSTICE

Notice of Lodging of Consent Decree Under the Comprehensive Environmental Response, Compensation and Liability Act

Consistent with Departmental policy, 28 CFR 50.7, notice is hereby given that on June 22, 2001, a proposed Consent Decree in United States v. Gulf Coast Recycling, Inc., Civil Action No. 8:01-cv-1191-T-24TBM was lodged with the United States District Court for the Middle District of Florida.

In this action the United States sought injunctive relief in order to remedy conditions in connection with the release and threatened release of hazardous substances into the environment at the Normandy Park Superfund Site in Hillsborough County, Florida (“Site”). The United States also sought to recover unreimbursed costs incurred and to be incurred for response activities undertaken and to be undertaken at the Site.

The proposed Consent Decree, which settles the liability of Gulf Coast Recycling, Inc. (“GCR”), for violations alleged in the Compliant, provides that GCR will perform the remedy at the Site as set forth in the Record of Decision executed by the Environmental Protection Agency on May 11, 2000. Under the Decree, GCR will also reimburse the United States for $257,181 of past response costs and one hundred percent of all future response costs to be incurred by the United States.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Gulf Coast Recycling, Inc., D.J. Ref. 90-1-2-07156.

The proposed Consent Decree may be examined at the Office of the United States Attorney, 400 North Tampa Street, Suite 3200, Tampa, Florida 33602, and at U.S. EPA Region IV, 61 Forsyth Street, Atlanta, Georgia, 30303. A copy of the proposed Consent Decree may also be obtained by mail from the Consent Decree Library, P.O. Box 7611, U.S. Department of Justice, Washington, DC 20044-7611. In requesting a copy, please enclose a check in the amount of $52.00 (25 cents per page reproduction cost) payable to the Consent Decree Library. In requesting a copy exclusive of exhibits, please enclose a check in the amount of $10.25 payable to the Consent Decree Library.

Walker B. Smith,
Deputy Chief, Environmental Enforcement Section, Environment and Natural Resources Division.

[FR Doc. 01-17478 Filed 7-11-01; 8:45 am]

BILLING CODE 4410-15-M